DEPARTMENT OF THE TREASURY

Submission for OMB Review; Comment Request

September 18, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 24, 2008 to be assured of consideration.

Financial Crimes Enforcement Network (FinCEN)

OMB Number: 1506-0015.

Type of Review: Extension.

Title: Suspicious Activity Report by Money Services Business.

Form: FinCEN 109.

Description: Regulations under 31 CFR 103.20 require Money Services Business's to report suspicious transactions to the Department of the Treasury.

Respondents: Individuals or household.

Estimated Total Reporting Burden: 878,400 hours.

Clearance Officer: Russell Stephenson (202) 354-6012, Department of the Treasury, Financial Crimes Enforcement Network, P.O. Box 39, Vienna, VA 22183.

OMB Reviewer: Alexander T. Hunt (202) 395-7316, Office of Management and Budget, Room 10235, New Executive Office Building, Washington, DC 20503.

Robert Dahl,
Treasury PRA Clearance Officer.

[FR Doc. E8-22321 Filed 9-23-08; 8:45 am]

BILLING CODE 4810-02-P